FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 17, 2011.

A. Federal Reserve Bank of Dallas (E. Ann Worthy, Vice President) 2200 North Pearl Street, Dallas, Texas 75201-2272:

1. James Edward Campbell; Rick Lane Campbell, individually, and as Trustee for the Collin McElroy Trust; Angela Lee Koonce, individually, and as Trustee for the Collin McElroy Trust; and Cameron James McElroy, all in Center, Texas (the “Campbell Family Group”); Aaron Weldon Boles and Lisa Gayle McAdams, both in Center, Texas (the “Boles Family Group”); Clyde Donald Monroe, Center, Texas; and Brenda Monroe Humble, Shelbyville, Texas (the “Monroe Family Group”); Sammy Dean Dance and Connie Mettauer, both in Center, Texas (the Dance Family Group); to retain voting shares of Shelby Bancshares, Inc., and thereby indirectly retain control of Shelby Savings Bank, SSB, both in Center, Texas.

Board of Governors of the Federal Reserve System, January 28, 2011.
Robert deV. Frierson,
Deputy Secretary of the Board.

[FR Doc. 2011-2263 Filed 2-1-11; 8:45 am]

BILLING CODE 6210-01-P